DEPARTMENT OF STATE

[Public Notice: 12785]

Notice for Public Meeting of the IPODS Federal Advisory Committee

ACTION: Notice of public meeting.

SUMMARY: As required by the Federal Advisory Committee Act, Public Law 92-463, the Department of State gives notice of a meeting of the Advisory Committee on International Postal and Delivery Services.

DATES: This Committee will meet virtually on Thursday, August 28, 2025 from 1:00 p.m. to 3:00 p.m. Eastern Time, hosted on the Zoom for Government platform. Members of the public interested in attending the meeting should contact the Committee's Designated Federal Officer by email by Friday, August 22, 2025, to be placed on the mailing list of recipients for the meeting's Zoom link. Requests to be added to the speakers list must be received in writing (by email) prior to the close of business on Friday, August 22, 2025; written comments from members of the public for distribution at this meeting must reach the Designated Federal Officer by email on this same date. Requests received after Friday, August 22, 2025, including any requests for reasonable accommodation, will be considered but might not be able to be fulfilled.

FOR FURTHER INFORMATION CONTACT: Members of the public interested in providing input to the meeting should likewise contact the Designated Federal Officer. Please contact Mr. Stuart Smith, Chief for International Postal Affairs in the Office of Specialized and Technical Agencies (IO/STA), Bureau of International Organization Affairs, U.S. Department of State, by email at SmithSM7@state.gov.

SUPPLEMENTARY INFORMATION: The agenda of the meeting will include proposals on the agenda of the UPU's regular Congress in Dubai in September 2025, as well as stakeholder input on other priority issues the United States might pursue at the Congress. Individuals wishing to provide oral input are requested to limit their comments to five minutes.

(Authority: 22 U.S.C. 2651a; 5 U.S.C. 1001 et seq.; 39 U.S.C. 407.)

Stuart Smith,
Designated Federal Officer, Advisory Committee on International Postal and Delivery Services, Office of Specialized and Technical Agencies, Bureau of International Organization Affairs, Department of State.

[FR Doc. 2025-14827 Filed 8-4-25; 8:45 am]

BILLING CODE 4710-19-P